DEPARTMENT OF LABOR

Employment and Training Administration

[NAFTA-5171 and NAFTA-5171A]

Huntsman Polymers Corporation; Huntsman Polymers Corporation Utilities Division, Odessa, TX; Notice of Determinations on Reopening

The Department, on its own motion, reopened on September 3, 2002, the certification regarding eligibility for workers of the subject firm to apply for North American Free Trade Agreement-Transitional Adjustment Assistance (NAFTA-TAA), applicable to workers and former workers of the subject firm engaged in activities related to the production of styrene monomers (NAFTA-5171). The certification was issued on August 29, 2001, and was published in the Federal Register on September 11, 2001 (66 FR 47241).

The petition investigation was reopened because the Department failed to include a determination as to whether workers in the Utilities Division of Huntsman Polymers Corporation, Odessa, Texas are eligible to apply for NAFTA-TAA. The workers at Huntsman Polymers are separately identifiable by product produced at the plant.

The findings of the investigation on reopening show that workers of Huntsman Polymers Corporation, Utilities Division, Odessa, Texas, “managed” the water supply and other raw materials utilized in the various manufacturing processes performed at the subject firm.

The investigation revealed that the workers of the subject firm do not produce an article within the meaning of section 250(a) of the Trade Act of 1974. The Department of Labor has consistently determined that the performance of services does not constitute production of an article, as required by the Trade Act of 1974. Workers of the subject facility may be certified only if their separation was caused importantly by a reduced demand for their services from a parent firm, a firm otherwise related to the subject firm by ownership, or a firm related by control.

The investigation revealed that the workers in the Utilities Division spent some of their time in support of the production of styrene monomers, but the majority of their work was in support of other production operations at the Odessa, Texas plant.

Conclusion

The certification applicable to workers engaged in activities related to the production of styrene monomers at Huntsman Polymers Corporation, Odessa, Texas (NAFTA-5171), remains in effect through August 29, 2003.

After careful review of the findings of the investigation on reopening, I conclude that workers of Huntsman Polymers Corporation, Utilities Division, Odessa, Texas (NAFTA-5171A), are denied eligibility to apply for NAFTA-TAA under section 250 of the Trade Act.

Signed in Washington, DC this 23rd day of October, 2002.
Edward A. Tomchick,
Director, Division of Trade Adjustment Assistance.

[FR Doc. 02-28387 Filed 11-6-02; 8:45 am]

BILLING CODE 4510-30-P